DEPARTMENT OF STATE

[Public Notice 10268]

Notice of Change of Ownership of Permit Holder of Presidential Permit for Express Pipeline Facilities on the Border of the United States and Canada

AGENCY: Department of State.

ACTION: Notice.

SUMMARY: Notice is hereby given of a change in ownership of Express Pipeline LLC (“Express US”), which owns, operates, and maintains pipeline facilities (“Express Pipeline”) authorized under a Presidential permit issued on July 9, 2015 (80 FR 45695).

SUPPLEMENTARY INFORMATION: On May 25, 2017, the Department published a Federal Register Notice providing notice of its receipt of a notification from the current permit holder regarding this change in ownership (82 FR 24200). Consistent with the procedures set forth in Public Notice 10111 (82 FR 42410, Sept. 7, 2017), the Department has reviewed that notification and has determined that the change in ownership does not affect the prior national interest determination that resulted in issuance of the Presidential permit issued to Express US on July 9, 2015. That permit, therefore, remains valid, subject to its terms and conditions. Additional information concerning the Express Pipeline is available at https://www.state.gov/e/enr/applicant/.

FOR FURTHER INFORMATION CONTACT: Marcus Lee, Presidential Permit Coordinator, Energy Resources Bureau, Office of Policy Analysis and Public Diplomacy, United States Department of State, 2201 C St. NW, Suite 4422, Washington, DC 20520. Tel: 202-485-1522.

Richard W. Westerdale II,
Senior Advisor, Bureau of Energy Resources, Department of State.

[FR Doc. 2018-00648 Filed 1-16-18; 8:45 am]

BILLING CODE 4710-AE-P